DEPARTMENT OF COMMERCE

International Trade Administration

[A-570-831]

Fresh Garlic From the People's Republic of China: Initiation of New Shipper Antidumping Duty Reviews

AGENCY: Import Administration, International Trade Administration, Department of Commerce.

ACTION: Notice of initiation of new shipper antidumping duty reviews.

SUMMARY: The Department of Commerce has received requests to conduct three new shipper reviews of the antidumping duty order on fresh garlic from the People's Republic of China. In accordance with section 751(a)(2)(B) of the Tariff Act of 1930, as amended, and 19 CFR 351.214(d), we are initiating these new shipper reviews.

EFFECTIVE DATE: January 7, 2002.

FOR FURTHER INFORMATION CONTACT: Edythe Artman or Dunyako Ahmadu, Import Administration, International Trade Administration, U.S. Department of Commerce, 14th Street and Constitution Avenue, NW., Washington, DC 20230; telephone: (202) 482-3931 or (202) 482-0198, respectively.

The Applicable Statute and Regulations

Unless otherwise indicated, all citations to the Tariff Act of 1930, as amended (the Act), are references to the provisions effective January 1, 1995, the effective date of the amendments made to the Act by the Uruguay Round Agreements Act. In addition, unless otherwise indicated, all references are made to the Department of Commerce's (the Department) regulations at 19 CFR part 351 (2001).

Background

On November 29, 2001, the Department received a request for a new shipper review from Shandong Heze International Trade and Developing Company (Shandong Heze). On November 30, 2001, we received requests for new shipper reviews from Jinan Yipin Corporation, Ltd. (Jinan Yipin) and Huaiyang Hongda Dehydrated Vegetable Company (Hongda). All three companies are Chinese producers and exporters of fresh garlic from the People's Republic of China. We have reviewed their requests and find that they comply with the content requirements for requests set forth under 19 CFR 351.214(b)(2). The period of review is November 1, 2000, through October 31, 2001.

Initiation of Review

Pursuant to 19 CFR 351.214(b)(2)(i), Shandong Heze, Jinan Yipin, and Hongda provided certifications that they had not exported subject merchandise to the United States during the period of investigation. In accordance with 19 CFR 351.214(b)(2)(iii)(A), each company further certified that, since the initiation of the original investigation, it has never been affiliated with any exporter or producer who exported the subject merchandise to the United States during the period of investigation, including those not individually examined during the investigation.

Also, as required by 19 CFR 351.214(b)(2)(iii)(B), each of the three companies certified that its export activities were not controlled by the central government. Thus, the requests from Shandong Heze, Jinan Yipin, and Hongda meet the content requirements set forth under 19 CFR 351.214(b)(2)(i) and (iii). In addition, the companies submitted documentation establishing the following: (1) the date on which their subject merchandise was first entered, or withdrawn from warehouse, for consumption or the date on which the exporter or producer first shipped the subject merchandise for export to the United States; (ii) the volume of that shipment; and (iii) the date of the first sale to an unaffiliated customer in the United States. Thus, the requests for review meet the content requirements set forth under 19 CFR 351.214(b)(2)(iv). Accordingly, pursuant to section 751(a)(2)(B)(ii) of the Act and 19 CFR 351.214(d)(1), we are initiating new shipper reviews for shipments of fresh garlic from the People's Republic of China produced and exported by Shandong Heze, Jinan Yipin, and Hongda. The period of review covers the period November 1, 2000, through October 31, 2001. See 19 CFR 351.214(g). We intend to issue final results of this review no later than 270 days after the day on which these new shipper reviews are initiated. See 19 CFR 351.214(i).

Concurrent with publication of this notice and in accordance with 19 CFR 351.214(e), we will instruct the Customs Service to allow, at the option of the importer, the posting of a bond or security in lieu of a cash deposit for each entry of the merchandise exported by Shandong Heze, Jinan Yipin, and Hongda until the completion of the review.

The interested parties must submit applications for disclosure under administrative protective order in accordance with 19 CFR 351.305 and 351.306.

This initiation and notice are in accordance with section 751(a)(2)(B)(ii) of the Act and 19 CFR 351.214 and 351.221(c)(1)(i).

Dated: December 28, 2001.
Richard W. Moreland,
Deputy Assistant Secretary for Import Administration.

[FR Doc. 02-317 Filed 1-4-02; 8:45 am]

BILLING CODE 3510-DS-P